DEPARTMENT OF LABOR

Continuing Information Collection Request for the Unemployment Insurance (UI) Facilitation of Claimant Reemployment; Comment Request

AGENCY: Employment and Training Administration.

ACTION: Notice.

SUMMARY: As part of its continuing effort to reduce paperwork and respondent burden, the Department of Labor (Department) conducts a preclearance consultation program to provide the general public and Federal agencies with an opportunity to comment on proposed and/or continuing collections of information in accordance with the Paperwork Reduction Act of 1995 (PRA95) [44 U.S.C. 3506(c)(2)(A)]. This program helps to ensure that the requested data can be provided in the desired format, reporting burden (time and financial resources) is minimized, collection instruments are clearly understood, and the impact of collection requirements on respondents can be properly assessed.

A copy of the proposed information collection request (ICR) can be obtained by contacting the office listed below in the addressee section of this notice or by accessing: http://www.doleta.gov/OMBCN/OMBControlNumber.cfm.

DATES: Submit comments to the office listed in the addressee section below on or before May 12, 2008.

ADDRESSES: Submit comments to Andrew W. Spisak, Office of Workforce Security, Employment and Training Administration, U. S. Department of Labor, Room S-4522, 200 Constitution Avenue, NW., Washington, DC 20210; telephone: 202-693-3196 (this is not a toll-free number); fax: 202-693-3975; e-mail: spisak.andrew@dol.gov.

SUPPLEMENTARY INFORMATION: I. Background: Required by Congress under the Government Performance and Results Act of 1993 (GPRA), the Department's Strategic Plan is an integral part of the budget process. Among the purposes of the GPRA are to improve Federal program effectiveness and public accountability by focusing on program results, service quality, and customer satisfaction.

Strategic Goal 4 in the Department's fiscal year (FY) 2006—2011 strategic plan—Strengthened Economic Protections —focuses on improving the operational performance and effectiveness of the federal/state UI program. Performance Goal 4A supports this goal with performance measures to “Make timely and accurate benefit payments to unemployed workers, facilitate the reemployment of unemployment insurance beneficiaries, and set up unemployment tax accounts promptly for new employers.”

ETA collects the data to measure the facilitation of reemployment of UI benefit recipients through the ETA 9047 report. OMB approved the Department's request to begin collecting UI reemployment data through the ETA 9047 report on July 26, 2005. ETA issued reporting instructions in Unemployment Insurance Program Letter (UIPL) No. 1-06 (October 6, 2005), and State Workforce Agencies began reporting data to ETA in March 2006.

Using the reemployment data submitted by the states through the ETA 9047 report, ETA calculated a baseline for the UI GPRA reemployment rate measure. In Training and Employment Guidance Letter (TEGL) No. 24-05 Change 1, ETA announced that the baseline reemployment rate was 62.4%, and set the FY 2007 GPRA Facilitate Reemployment goal at 65%. The TEGL also advised states that the development of a UI Performs measure “with a criterion by which to assess individual states” success in facilitating UI reemployment” was in progress.

Data Collection

Each calendar quarter, states report on the ETA 9047 report separate counts for individuals receiving their first UI payments who are exempt from work search/employment service registration (“exempt”), in most cases because they are job-attached with definite recall dates, and those who must conduct work search or register with the employment service (“nonexempt”).

States also report on the ETA 9047 report the number of those first payment recipients for whom intrastate or out-of-state employers reported wages in the subsequent quarter. States obtain these counts by running computer crossmatches of the Social Security Numbers (SSNs) of the claimants who received a first UI payment with the UI wage records for the subsequent calendar quarter. ETA issued instructions on obtaining out-of-state reemployment data through matching the SSNs of UI first payment recipients with UI wage records in the National Directory of New Hires in UIPL No. 1-06, Change 1 (August 2, 2006).

A facsimile of the ETA 9047 report is shown below. Reporting instructions for the ETA 9047 report are found in ET Handbook 401, 4th edition, section IV, chapter 7.

ETA 9047—Remployment of UI Benefit Recipients
State—Exemption Code | Region—Number of claimants receiving 1st payment | Report for period ending—: Number of Intrastate Crossmatch Hits: YYYY.Q+1 | Report for period ending—: Number of Interstate Crossmatch Hits: YYYY.Q+1
0—Not Exempt |  |  |
1—Exempt |  |  |

Comments

OMB No.: 1205-0452.

OMB Expiration Date: 07/31/2008.

OMB Burden Minutes: 600.

OMB Burden Statement: In accordance with the Paperwork Reduction Act of 1995, the U.S. Office of Management and Budget has approved the reporting requirements for the ETA 9047 report under OMB approval No. 1205-0452 to expire July 31, 2008. The estimated reporting burden for this report is 10 hours.

UI Reemployment GPRA Measure

The UI reemployment GPRA measure is defined as the percentage of all UI claimants receiving a first payment in a calendar quarter who were paid wages in the following calendar quarter that appear in UI wage records.

ETA believes that this measure encourages the agencies that administer UI—which share responsibility with all Workforce Investment partners in facilitating the reemployment of UI beneficiaries—to be innovative in the steps they take to facilitate these individuals' reemployment. Insights gained about the combinations of reemployment efforts and UI eligibility conditions that promote the quick return of UI beneficiaries to suitable work will be shared with state UI agencies.

The following table summarizes GPRA targets and performance for the UI reemployment measure.

GPRA Targets and Performance
Goal and indicator | FY 2006 target | FY 2006 actual | FY 2007 target | FY 2008 target
Facilitate Reemployment:
Percent of UI claimants who were reemployed by the end of the first quarter after the quarter in which they received their first payment | *62.4 | 64.2 | 65.0 | 65.2
* Based on baseline data submitted March 2006.

II. Desired Focus of Comments: The Department is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submission of responses.

III. Current Actions: ETA issued UIPL No. 12-08 [February 13, 2008] to solicit comment on the proposed definition for the UI Performs core measure, “Facilitate the Reemployment of UI Claimants” and the approach used for setting the Acceptable Level of Performance (ALP). We are proposing using the same definition for the UI Performs core measure as for the GPRA measure for purposes of consistency and its uniform application to all states.

ETA's analysis of the UI reemployment data show that state performance in reemployment of UI benefit recipients is influenced by forces outside the control of the agency administering the state UI law, most notably by the economic conditions in the state, as measured by the Total Unemployment Rate (TUR), and the percent of UI benefit recipients that are on temporary layoff, as measured by the percent of claimants who not required to search for work or register with the state employment service. The proposed ALP's for the UI Performs Core measure reflect state-specific data for these two factors. UIPL No. 12-08 includes a detailed explanation of the methodology used to develop the proposed ALP.

Type of Review: Extension without change.

Agency: Employment and Training Administration.

Title: Unemployment Insurance Facilitation of Claimant Reemployment.

Record keeping: Per ET Handbook 401, 4th edition, p. v, “source data supporting counts [reported] should be retained for at least three years.”

Affected Public: State Workforce Agencies(SWAs).

Frequency: Quarterly.

Total Respondents: 53 SWAs.

Total Responses: 212 per year (53 SWAs × 4 quarterly reports per year).

Estimated Time Per Response: SWA staff—10 hours.

Total Burden Hours: 2,120 hours.

Total Burden Cost (capital/startup): This is an established data collection for which no changes are proposed; there are no startup costs.

Total Burden Cost (operating/maintaining): $77,168 (annual) (53 SWAs at $1,456 per SWA).

Comments submitted in response to this request will be summarized and/or included in the request for OMB approval of the information collection request; they will also become a matter of public record.

Dated: March 4, 2008.
Cheryl Atkinson,
Administrator, Office of Workforce Security, Washington, DC.

[FR Doc. E8-4657 Filed 3-10-08; 8:45 am]

BILLING CODE 4510-FW-P